DEPARTMENT OF COMMERCE

International Trade Administration

[A-570-044]

1,1,1,2-Tetrafluoroethane (R-134a) From the People's Republic of China: Final Results of the Antidumping Duty Administrative Review; 2020-2021

AGENCY: Enforcement and Compliance, International Trade Administration, Department of Commerce.

SUMMARY: The Department of Commerce (Commerce) determines that the sole company subject to this administrative review is part of the China-wide entity because it did not file a separate rate application (SRA). The period of review (POR) is April 1, 2020, through March 31, 2021.

DATES: Applicable May 6, 2022.

FOR FURTHER INFORMATION CONTACT: Kate Sliney, AD/CVD Operations, Office III, Enforcement and Compliance, International Trade Administration, U.S. Department of Commerce, 1401 Constitution Avenue NW, Washington, DC 20230; telephone: (202) 482-2437.

SUPPLEMENTARY INFORMATION:

Background

On January 4, 2022, Commerce published the Preliminary Results of this administrative review.¹ We invited interested parties to comment on the Preliminary Results. We received no comments from interested parties on the Preliminary Results. Prior to the publication of the Preliminary Results, on December 13, 2021, Commerce referred certain business proprietary information received in the context of this administrative review to U.S. Customs and Border Protection (CBP). Commerce conducted this administrative review in accordance with section 751 of the Tariff Act of 1930, as amended (the Act).

¹ See 1,1,1,2-Tetrafluoroethane (R-134a) from the People's Republic of China: Preliminary Results of Antidumping Duty Administrative Review; 2020-2021, 87 FR 216 (January 4, 2022) (Preliminary Results).

Scope of the Order

The merchandise covered by the order is 1,1,1,2-Tetrafluoroethane, R-134a, or its chemical equivalent, regardless of form, type, or purity level. The chemical formula for 1,1,1,2-Tetrafluoroethane is CF3-CH2 F, and the Chemical Abstracts Service (CAS) registry number is CAS 811-97-2.²

² 1,1,1,2-Tetrafluoroethane is sold under a number of trade names including Klea 134a and Zephex 134a (Mexichem Fluor); Genetron 134a (Honeywell); Freon™ 134a, Suva 134a, Dymel 134a, and Dymel P134a (Chemours); Solkane 134a (Solvay); and Forane 134a (Arkema). Generically, 1,1,1,2-Tetrafluoroethane has been sold as Fluorocarbon 134a, R-134a, HFC-134a, HF A-134a, Refrigerant 134a, and UN3159.

Merchandise subject to the order is currently classified in the Harmonized Tariff Schedule of the United States (HTSUS) at subheading 2903.45.1000. Although the HTSUS subheading and CAS registry number are provided for convenience and customs purposes, the written description of the scope is dispositive.

Final Results of Administrative Review

Because we received no comments, we made no changes from the Preliminary Results. We continue to find that Puremann, Inc., the sole company subject to this review, did not file an SRA and has not demonstrated its eligibility for separate rate status and, therefore, is part of the China-wide entity. In this administrative review, no party requested a review of the China-wide entity, and Commerce did not self-initiate a review of the China-wide entity. Because no review of the China-wide entity is being conducted, the China-wide entity's entries were not subject to the review, and the rate applicable to the China-wide entity was not subject to change as a result of this review. The China-wide entity rate remains 167.02 percent.

Assessment Rates

Commerce shall determine, and CBP shall assess, antidumping duties on all appropriate entries in accordance with section 751(a)(2)(C) of the Act and 19 CFR 351.212(b). Because we determined that Puremann, Inc. was not eligible for a separate rate and is part of the China-wide entity, we will instruct CBP to apply an ad valorem assessment rate of 167.02 percent to all entries of subject merchandise during the POR that were exported by Puremann, Inc.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) For previously investigated or reviewed Chinese or non-Chinese exporters that received a separate rate in a prior segment of this proceeding, the cash deposit rate will continue to be the existing exporter-specific rate; (2) for all Chinese exporters of subject merchandise that have not been found to be entitled to a separate rate, the cash deposit rate will be that for the China-wide entity (i.e., 167.02 percent); and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results in accordance with sections 751(a)(1) and 777(i) of the Act, and 19 CFR 351.213(h) and 351.221(b)(5).

Dated: April 29, 2022.
Lisa W. Wang,
Assistant Secretary for Enforcement and Compliance.

[FR Doc. 2022-09802 Filed 5-5-22; 8:45 am]

BILLING CODE 3510-DS-P